DEPARTMENT OF ENERGY

Federal Energy Regulatory Commission

Combined Notice of Filings # 1

November 18, 2008.

Take notice that the Commission received the following electric corporate filings:

Docket Numbers: EC09-20-000.

Applicants: E.ON AG.

Description: Dewey & LeBoeuf LLP reports to accept for filing the application under Section 203 of the Federal Power Act for modification of the foreign utility company acquisitions verification procedure under rule 33.1(c)(5) etc.

Filed Date: 11/12/2008.

Accession Number: 20081114-0233.

Comment Date: 5 p.m. Eastern Time on Wednesday, December 3, 2008.

Docket Numbers: EC09-21-000.

Applicants: BE Red Oak LLC, JP Morgan Ventures Energy Corporation, Sempra Energy Trading LLC.

Description: Joint Application for Authorization under Section 203 of the FPA, Request for Waiver of Certain Commission Requirements, and Requests for Confidential and Expedited Treatment.

Filed Date: 11/14/2008.

Accession Number: 20081114-5122.

Comment Date: 5 p.m. Eastern Time on Friday, December 5, 2008.

Docket Numbers: EC09-23-000.

Applicants: Shiloh Wind Project 2, LLC.

Description: Application of Shiloh Wind Project 2, LLC for Authorization Under Section 203 of the Federal Power Act, Request for Expedited Consideration and Confidential Treatment.

Filed Date: 11/17/2008.

Accession Number: 20081117-5041.

Comment Date: 5 p.m. Eastern Time on Monday, December 8, 2008.

Take notice that the Commission received the following exempt wholesale generator filings:

Docket Numbers: EG09-15-000.

Applicants: Buffalo Ridge I LLC.

Description: Notice of Self-Certification of Exempt Wholesale Generator Status re Buffalo Ridge I LLC.

Filed Date: 11/18/2008.

Accession Number: 20081118-5049.

Comment Date: 5 p.m. Eastern Time on Tuesday, December 9, 2008.

Docket Numbers: EG09-16-000.

Applicants: Moraine Wind II LLC.

Description: Notice of Self-Certification of Exempt Wholesale Generator Status.

Filed Date: 11/18/2008.

Accession Number: 20081118-5050.

Comment Date: 5 p.m. Eastern Time on Tuesday, December 9, 2008.

Docket Numbers: EG09-17-000.

Applicants: Pebble Springs Wind LLC.

Description: Notice of Self-Certification of Exempt Wholesale Generator Status.

Filed Date: 11/18/2008.

Accession Number: 20081118-5051.

Comment Date: 5 p.m. Eastern Time on Tuesday, December 9, 2008.

Take notice that the Commission received the following electric rate filings:

Docket Numbers: ER00-1712-010; ER00-1703-005; ER00-744-008; ER02-1327-007; ER02-2408-005; ER02-1749-005; ER02-1747-005; ER99-4503-007; ER00-2186-005; ER01-1559-006.

Applicants: Lower Mount Bethel Energy, LLC, PPL Brunner Island, LLC, PPL Edgewood Energy, LLC, PPL EnergyPlus, LLC, PPL Great Works, LLC, PPL Holtwood, LLC, PPL Maine, LLC, PPL Martins Creek, LLC, PPL Montour, LLC, PPL Shoreham Energy, LLC, PPL Susquehanna, LLC, PPL University Park, LLC, PPL Wallingford Energy LLC, PPL Electric Utilities Corporation.

Description: PPL East Companies' compliance filing.

Filed Date: 11/17/2008.

Accession Number: 20081117-5172.

Comment Date: 5 p.m. Eastern Time on Monday, December 8, 2008.

Docket Numbers: ER01-2569-007; ER01-2568-006; ER02-1175-006; ER98-4652-007.

Applicants: Boralex Ashland, LP; Boralex Livermore Falls LP; Boralex Fort Fairfield LP; Boralex Stratton Energy LP.

Description: Boralex Livermore Falls LP et al. submits a revision to the market-based rate tariffs in accordance with Order No. 697.

Filed Date: 11/13/2008.

Accession Number: 20081114-0152.

Comment Date: 5 p.m. Eastern Time on Thursday, December 4, 2008.

Docket Numbers: ER02-579-007.

Applicants: Capital District Energy Center Cogen.

Description: Capitol District Energy Center Cogeneration Associates submits a revised FERC Electric tariff to accompany the Application.

Filed Date: 11/12/2008.

Accession Number: 20081114-0150.

Comment Date: 5 p.m. Eastern Time on Wednesday, December 3, 2008.

Docket Numbers: ER02-580-008.

Applicants: Pawtucket Power Associates Limited Partn.

Description: Pawtucket Power Associates, LP submits a revised tariff in compliance with standardized tariff requirements of Order No. 697-A.

Filed Date: 11/12/2008.

Accession Number: 20081114-0146.

Comment Date: 5 p.m. Eastern Time on Wednesday, December 3, 2008.

Docket Numbers: ER02-237-011.

Applicants: J. Aron & Company.

Description: J. Aron & Company submits a revised tariff sheet to include in its rate schedule a separate provision regarding its Seller Category status.

Filed Date: 11/14/2008.

Accession Number: 20081117-0112.

Comment Date: 5 p.m. Eastern Time on Monday, December 1, 2008.

Docket Numbers: ER05-320-005; ER02-999-007; ER97-2460-010; ER97-2463-007.

Applicants: Unitil Energy Systems, Inc.; Unitil Power Corporation; Fitchburg Gas & Electric Light Co.

Description: Unitil Energy Systems, Inc et al. submits a supplement to the1/14/08 filing of updated market power analysis.

Filed Date: 11/12/2008.

Accession Number: 20081114-0153.

Comment Date: 5 p.m. Eastern Time on Wednesday, December 3, 2008.

Docket Numbers: ER05-968-004.

Applicants: Basin Creek Equity Partners, LLC.

Description: Basin Creek Equity Partners, LLC submits an application for a finding by the Commission that it qualifies for Category 1 status and is exempt from the requirement to submit updated market power analyses etc.

Filed Date: 11/12/2008.

Accession Number: 20081114-0234.

Comment Date: 5 p.m. Eastern Time on Wednesday, December 3, 2008.

Docket Numbers: ER06-456-017; ER05-880-001; ER06-1271-012; ER06-954-013; ER07-424-008; EL07-57-004.

Applicants: PJM Interconnection L.L.C.

Description: PJM Interconnection, LLC submits revisions to Schedule 12—Appendix of the PJM Tariff in incorporate cost responsibility assignments for below 500 kV upgrades included in the PJM Regional Transmission Expansion Plan etc.

Filed Date: 11/14/2008.

Accession Number: 20081118-0048.

Comment Date: 5 p.m. Eastern Time on Friday, December 5, 2008.

Docket Numbers: ER06-635-004; ER95-1007-023; ER06-634-004.

Applicants: Edgecombe Genco, LLC; Logan Generating Company, LP Spruance Genco, LLC.

Description: Edgecombe Genco, LLC et al. submits an updated market power analysis in compliance with Order 697-A.

Filed Date: 11/12/2008.

Accession Number: 20081114-0149.

Comment Date: 5 p.m. Eastern Time on Wednesday, December 3, 2008.

Docket Numbers: ER06-758-005.

Applicants: Chambers Cogeneration, Limited Partnership.

Description: Chambers Cogeneration, LP submits a revised tariff in compliance with standardized tariff requirements of Order No. 697-A.

Filed Date: 11/12/2008.

Accession Number: 20081114-0145.

Comment Date: 5 p.m. Eastern Time on Wednesday, December 3, 2008.

Docket Numbers: ER06-1367-004; ER07-239-003; ER99-1714-007; ER06-745-003.

Applicants: BG Dighton Power, LLC, BG Energy Merchants, LLC, Lake Road Generating Company, LP, Masspower.

Description: BG Dighton Power, LLC et al. submits a revised updated market power analysis and compliance filing pursuant to Orders 697 and 697-A.

Filed Date: 11/13/2008.

Accession Number: 20081114-0151.

Comment Date: 5 p.m. Eastern Time on Thursday, December 4, 2008.

Docket Numbers: ER07-1212-001.

Applicants: Forked River Power LLC.

Description: Forked River Power, LLC submits a revised tariff in compliance with standardized tariff requirements of Order No. 697 and 697-A.

Filed Date: 11/12/2008.

Accession Number: 20081114-0147.

Comment Date: 5 p.m. Eastern Time on Wednesday, December 3, 2008.

Docket Numbers: ER09-279-000.

Applicants: Buffalo Ridge I LLC.

Description: Buffalo Ridge I LLC submits FERC Electric Tariff, Original Volume No. 1 etc. under ER09-279.

Filed Date: 11/14/2008.

Accession Number: 20081117-0029.

Comment Date: 5 p.m. Eastern Time on Friday, December 5, 2008.

Docket Numbers: ER09-281-000.

Applicants: Pebble Springs Wind.

Description: Pebble Springs Wind LLC submits FERC Electric Tariff, Original Volume No. 1 etc. under ER09-281.

Filed Date: 11/14/2008.

Accession Number: 20081117-0028.

Comment Date: 5 p.m. Eastern Time on Friday, December 5, 2008.

Docket Numbers: ER09-282-000.

Applicants: Moraine Wind II LLC.

Description: Moraine Wind II LLC submits FERC Electric Tariff, Original Volume No. 1 etc. under ER09-282.

Filed Date: 11/14/2008.

Accession Number: 20081117-0030.

Comment Date: 5 p.m. Eastern Time on Friday, December 5, 2008.

Docket Numbers: ER09-284-000.

Applicants: Southern California Edison Company.

Description: Southern California Edison Co submits revised rate sheets to the amended and restated Edison—AEPCO Load Control Agreement with Arizona Electric Power Cooperative, Inc.

Filed Date: 11/13/2008.

Accession Number: 20081114-0119.

Comment Date: 5 p.m. Eastern Time on Thursday, December 4, 2008.

Docket Numbers: ER09-285-000.

Applicants: Florida Power Corporation.

Description: Progress Energy Florida, Inc submits an executed operating agreement with Tampa Electric.

Filed Date: 11/13/2008.

Accession Number: 20081114-0118.

Comment Date: 5 p.m. Eastern Time on Thursday, December 4, 2008.

Docket Numbers: ER09-286-000.

Applicants: Nevada Power Company.

Description: NV Energy submits Notice of Cancellation of the Rate Schedule 6 for reactive Supply and Voltage Control that became effective as of 11/1/05.

Filed Date: 11/13/2008.

Accession Number: 20081114-0117.

Comment Date: 5 p.m. Eastern Time on Thursday, December 4, 2008.

Docket Numbers: ER09-288-000.

Applicants: Appalachian Power Company.

Description: Appalachian Power Company submits an Amended and Restated Interconnection Agreement, dated 11/13/08 with Kingsport Power Co, to be effective 1/1/09.

Filed Date: 11/13/2008.

Accession Number: 20081117-0027.

Comment Date: 5 p.m. Eastern Time on Friday, November 28, 2008.

Docket Numbers: ER09-289-000.

Applicants: New York Independent System Operator, In.

Description: New York Independent System Operator, Inc submits the executed Coordination Agreement Between ISO New England, Inc and the NYISO.

Filed Date: 11/13/2008.

Accession Number: 20081117-0026.

Comment Date: 5 p.m. Eastern Time on Thursday, December 4, 2008.

Docket Numbers: ER09-291-000.

Applicants: ISO New England Inc.

Description: ISO New England Inc submits revisions to the Coordination Agreement with New York Independent System Operator, Inc.

Filed Date: 11/13/2008.

Accession Number: 20081117-0031.

Comment Date: 5 p.m. Eastern Time on Thursday, December 4, 2008.

Docket Numbers: ER09-292-000.

Applicants: California Independent System Operator C.

Description: California Independent System Operator Corp submits an Amended and Restated Metered Subsystem Agreement with City of Santa Clara.

Filed Date: 11/13/2008.

Accession Number: 20081117-0033.

Comment Date: 5 p.m. Eastern Time on Thursday, December 4, 2008.

Docket Numbers: ER09-293-000.

Applicants: Tri-Valley Corporation.

Description: Tri-Valley Corp submits a notice of cancellation of its FERC Electric Tariff, Original Volume 1.

Filed Date: 11/14/2008.

Accession Number: 20081117-0055.

Comment Date: 5 p.m. Eastern Time on Friday, December 5, 2008.

Docket Numbers: ER09-294-000.

Applicants: PacifiCorp.

Description: PacifiCorp submits revised Original Sheet 47A et al. to its FERC Electric Tariff, Seventh Revised Volume 11, effective 11/14/08.

Filed Date: 11/14/2008.

Accession Number: 20081117-0054.

Comment Date: 5 p.m. Eastern Time on Friday, December 5, 2008.

Docket Numbers: ER09-296-000.

Applicants: New York Independent System Operator, Inc.

Description: New York Independent System, Operator, Inc et al. submits an executed Amended and Restated Standard Small Generator Interconnection Agreement with Innovative Energy Systems, Inc.

Filed Date: 11/13/2008.

Accession Number: 20081117-0032.

Comment Date: 5 p.m. Eastern Time on Thursday, December 4, 2008.

Docket Numbers: ER09-297-000; ER05-1511-004; ER07-1246-001.

Applicants: Michigan Wind 1, LLC; Noble Thumb Windpark I, LLC; Harvest WindFarm, LLC.

Description: Michigan Wind 1, LLC et al. submits Notice of Change in Status in conncetion with the acquisition by John Deere Renewables, LLC from Noble Thumb Windpark, LLC of 100 percent ownership interests.

Filed Date: 11/13/2008.

Accession Number: 20081117-0056.

Comment Date: 5 p.m. Eastern Time on Thursday, December 4, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-31066 Filed 12-30-08; 8:45 am]

BILLING CODE 6717-01-P